DEPARTMENT OF HOMELAND SECURITY

Coast Guard

46 CFR Parts 30, 150, and 153

[Docket No. USCG-2013-0423]

RIN 1625-AB94

2013 Liquid Chemical Categorization Updates

AGENCY: Coast Guard, DHS.

ACTION: Interim rule; delay of effective date.

SUMMARY: The Coast Guard announces an additional two-year delay of the effective date of its 2013 interim rule, which updates and revises tables that list liquid hazardous materials, liquefied gases, and compressed gases that have been approved by the Coast Guard and the International Maritime Organization for maritime transportation in bulk. These tables also indicate how the pollution potential of each substance has been categorized. The Coast Guard received comments to our 2013 interim rule regarding technical errors in the revised tables and is working to correct those errors. The additional delay will allow the Coast Guard to complete its work to correct technical errors and solicit additional comments in a supplemental notice of proposed rulemaking, prior to finalizing the rule. This rulemaking promotes the Coast Guard's maritime safety and stewardship missions.

DATES: The effective date of the interim final rule published at 78 FR 50147 (Aug. 16, 2013), delayed until January 16, 2014, at 78 FR 56837 (Sept. 16, 2013), and further delayed until January 16, 2015, at 79 FR 2106 (Jan. 13, 2014), is further delayed until January 16, 2017.

FOR FURTHER INFORMATION CONTACT: If you have questions about this rule, email or call Mr. Patrick Keffler, Coast Guard; email: Patrick.A.Keffler@uscg.mil; telephone: 202-372-1424. If you have questions about viewing or submitting material to the docket, call Cheryl Collins, Program Manager, Docket Operations, telephone 202-366-9826.

SUPPLEMENTARY INFORMATION: This document is issued under the authority of 5 U.S.C. 552(a).

Dated: November 6, 2014.
J.G. Lantz,
Director of Commercial Regulations and Standards, U.S. Coast Guard.

[FR Doc. 2014-26920 Filed 11-13-14; 8:45 am]

BILLING CODE 9110-04-P